DEPARTMENT OF ENERGY

Federal Energy Regulatory Commission

[Docket No. EL00-77-000]

SkyGen Energy LLC v. Southern Company Services, Inc.; Notice of Complaint

May 19, 2000.

Take notice that on May 18, 2000, SkyGen Energy LLC (Complainant) filed with the Federal Energy Regulatory Commission a complaint against Southern Company Services, Inc., as agent for Alabama Power Company, Georgia Power Company, Gulf Power Company, Mississippi Power Company, and Savannah Electric and Power Company (Respondent) pursuant to Rule 206 of the Commission's Rules of Practice and Procedure, 18 CFR 385.206. According to the Complaint, Respondent wrongfully denied a request made by SkyGen Energy Marketing, LLC on behalf of SkyGen and Santa Rosa Energy LLC (Santa Rosa Energy) under its Open Access Transmission Tariff (OATT) because that denial is based upon repudiation of the executed interconnection agreement between the Complainant and Respondent. The Complainant alleges that Respondent is denying Complainant interconnection service (the ability to access its electrical system) and its request for transmission service.

According to the Complainant, Respondent has planned the addition of its own generation to the Southwest Quadrant of its system while ignoring the addition of Complainant's Facility to the system already accomplished by the executed interconnection agreement. Now, on the basis that the Respondent cannot honor the Complainant's interconnection agreement by adding its Facility to the Southwest Quadrant, Respondent has denied Complainant's request for firm transmission service.

Complainant also asserts that Respondent has failed to consider reassignment of transmission capacity reserved for native load use but not currently needed or used, operating restrictions and/or special protection systems, or redispatch to accommodate Complainant's request for firm transmission service. According to the Complaint, Respondent has refused to expeditiously use a Power System Stabilizer solution it has used in order to accommodate its own generation, and which has been demonstrated to be a means that can accommodate Respondent's request for firm transmission service.

Questions concerning the Complaint may be directed to counsel for Complainant, Robert L. Daileader, Jr., Nixon Peabody LLP, Suite 700, One Thomas Circle, NW, Washington, DC 20005, Phone 202/457-5318, Fax 202/457-5355, e-mail rdaileader@nixonpeabody.com.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before May 31, 2000. Protests will be considered by the Commission in determining the appropriate action to be taken, but will not serve to make protestants parties to the proceeding. Any person wishing to become a party must file a motion to intervene. Copies of this filing are on file with the Commission and are available for public inspection in the Public Reference Room. This filing may also be viewed on the Internet at ­ http:/www.ferc.fed.us/online/rims.htm (call 202-208-2222) for assistance. Answers to the complaint shall also be due on or before May 31, 2000.

Linwood A. Watson, Jr.,
Acting Secretary.

[FR Doc. 00-13106 Filed 5-24-00; 8:45 am]

BILLING CODE 6717-01-M